DEPARTMENT OF TRANSPORTATION

Office of the Secretary

Notice of Applications for Certificates of Public Convenience and Necessity and Foreign Air Carrier Permits Filed Under Subpart B (formerly Subpart Q) during the Week Ending January 10, 2015

The following Applications for Certificates of Public Convenience and Necessity and Foreign Air Carrier Permits were filed under Subpart B (formerly Subpart Q) of the Department of Transportation's Procedural Regulations (See 14 CFR 302.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2015-0003.

Date Filed: January 8, 2015.

Due Date for Answers, Conforming Applications, or Motion to Modify Scope: January 29, 2015.

Description: Application of Air Caledonie International S.A. (Aircalin), requesting a foreign air carrier permit and exemption authorizing it to provide scheduled and charter foreign air transportation of persons, property and mail from any point or points behind New Caledonia, via any point or points in New Caledonia and any intermediate points, to any point or points in the United States.

Barbara J. Hairston,
Supervisory Dockets Officer, Docket Operations, Federal Register Liaison.

[FR Doc. 2015-05629 Filed 3-11-15; 8:45 am]

BILLING CODE 4910-9X-P